DEPARTMENT OF THE INTERIOR

Office of Surface Mining Reclamation and Enforcement

30 CFR Part 948

[WV-117-FOR; OSM-2011-0006]

West Virginia Regulatory Program

AGENCY: Office of Surface Mining Reclamation and Enforcement (OSM), Interior.

ACTION: Interim rule; effective date.

SUMMARY: On June 29, 2011, OSM published an interim rule approving a program amendment submitted by the West Virginia Department of Environmental Protection (WVDEP). The interim rule provided an opportunity for public comment and gave the comment due date and tentative hearing date. The summary and preamble to the interim rule specified that it was effective upon publication; however, the DATES section of the rule failed to list an effective date. This final rule corrects that omission by providing an effective date.

DATES: The interim final rule published at 76 FR 37996 is effective July 14, 2011.

ADDRESSES: You may submit comments on the interim rule WV-117-FOR (76 FR 37996; June 29, 2011) by any of the following two methods:

• Federal eRulemaking Portal: http://www.regulations.gov. The rule has been assigned Docket ID OSM-2011-0006. If you would like to submit comments through the Federal eRulemaking Portal, go to http://www.regulations.gov and follow the instructions.

• Mail/Hand Delivery: Mr. Roger W. Calhoun, Director, Charleston Field Office, Office of Surface Mining Reclamation and Enforcement, 1027 Virginia Street, East, Charleston, West Virginia 25301.

FOR FURTHER INFORMATION CONTACT: Mr. Roger W. Calhoun, Director, Charleston Field Office, Telephone: (304) 347-7158. E-mail: chfo@osmre.gov.

SUPPLEMENTARY INFORMATION: On June 29, 2011, we published an interim rule with request for comments at 76 FR 37996. The interim rule announced receipt of a proposed amendment to the West Virginia permanent regulatory program under the Surface Mining Control and Reclamation Act of 1977. On May 2, 2011, the WVDEP submitted a program amendment to OSM that included both statutory and regulatory revisions. West Virginia submitted proposed permit fee revisions to the Code of West Virginia as authorized by House Bill 2955 that passed during the State's regular 2011 legislative session. In addition, West Virginia amended its Code of State Regulations (CSR) to provide for the establishment of a minimum incremental bonding rate as authorized by Senate Bill 121. The changes, due to the passage of House Bill 2995, will increase the filing fee for the State's surface mining permit to $3,500 and establish various fees for other permitting actions. Senate Bill 121 authorizes regulatory revisions which includes, among other things, the establishment of a minimum incremental bonding rate of $10,000 per increment at CSR 38-2-11.4.a.2. Because the West Virginia revisions have an effective date of June 16, 2011, we approved the permit fees and the minimum incremental bonding rate on an interim basis. Our regulations at 30 CFR 732.17(h)(12) state that “[a]ll decisions approving or not approving program amendments must be published in the Federal Register and will be effective upon publication unless the notice specifies a different effective date.” Because our approval was published on June 29, 2011, and the notice did not specify a different effective date, for purposes of the West Virginia Regulatory Program, we consider the State's provisions approved effective June 29, 2011. Please see the Federal Register document published at 76 FR 37996 on June 29, 2011, for more details.

List of Subjects in 30 CFR Part 948

Intergovernmental relations, Surface mining, Underground mining.

Dated: July 5, 2011.
Michael K. Robinson,
Acting Regional Director, Appalachian Region.

[FR Doc. 2011-17336 Filed 7-13-11; 8:45 am]

BILLING CODE 4310-05-P